DEPARTMENT OF HEALTH AND HUMAN SERVICES

National Institutes of Health

National Cancer Institute; Call for Nominations for the National Cancer Institute Director's Consumer Liaison Group

The National Cancer Institute (NCI), the Federal Government's primary agency for cancer research, is seeking nominations for up to six (6) new members of the NCI Director's Consumer Liaison Group (DCLG) who will be appointed in July 2008. The DCLG is a Federal chartered advisory committee of the NCI. It consists of 16 consumer advocates who are involved in cancer advocacy and who reflect the diversity among those whose lives are affected by cancer.

The mission of the DCLG is to advise, assist, consult with, and make recommendations to the NCI Director, from the perspective and viewpoint of cancer consumer advocates on a wide variety of issues, programs, and research priorities. The DCLG serves as a channel for consumer advocates to voice their views and concerns. Specifically, the DCLG members:

• Help develop and establish processes, mechanisms, and criteria for identifying appropriate consumer advocates to serve on a variety of program and policy advisory committees responsible for advancing the mission of the NCI.

• Serve as a primary forum for discussing issues and concerns and exchanging viewpoints that are important to the broad development of the NCI programmatic and research priorities.

• Establish and maintain strong collaborations between the NCI and the cancer advocacy community to reach common goals.

Eligibility Requirements for Individual Members: To serve on the DCLG, a member must meet the following minimum eligibility requirements:

• Be involved in the cancer experience as a cancer survivor, a care-giver to someone who has cancer, or a professional or volunteer who works with survivors or those affected by cancer; and

• Represent a constituency with whom you communicate regularly on cancer issues and be able to serve as a conduit for information both to and from your constituency.

DCLG members must be committed to participate fully in all activities of the DCLG, including at least two meetings per year in the Bethesda, MD area, conference calls, and working group activities.

Criteria for Evaluating Individual Candidates: Nominees who meet the minimum eligibility requirements will be further assessed based on the following criteria:

• Cancer advocacy experience;

• Possession of strong leadership skills;

• Communication and collaboration skills;

• Ability to represent/advise on broad, cross-cutting cancer issues, including those NCI priorities identified by the NCI Director;

• Ability to facilitate dialogue between NCI and the cancer advocacy community.

Characteristics of the DCLG: In addition to the criteria for individual candidates, the following characteristics of the DCLG as a group are intended to ensure that it reflects the breadth and diversity of the consumer advocacy community:

• Ethnic and cultural diversity;

• A broad mix of cancer sites;

• Representation of the medically underserved;

• A range of cancer advocacy organizations (from small, local to regional and national);

• A diversity of ages and gender;

• Geographic diversity (including urban/rural areas).

Selection Process: A call for nominations is disseminated annually to a broad range of local, regional, and national organizations to encourage the nomination of candidates reflecting the diversity sought for the DCLG. All nominees are screened for eligibility and then according to criteria for evaluating individual candidates. A list of highly qualified candidates who reflect balance and diversity of representation is forwarded to the NCI Director, who selects the DCLG members.

NCI encourages nomination of candidates reflecting the diversity of the cancer advocacy community. Nominations can be made by organizations, including local/regional and national groups, or individuals, including self-nominations. In order to be considered for the DCLG, send a resume or curriculum vitae, two references and a cover letter detailing your interest in participating in the DCLG. Please be sure to include your advocacy or voluntary organization affiliation, address, phone number, and email address. Send the information to: DCLG 2008 Member Nomination, c/o Ms. Barbara Guest, Executive Secretary, Office of Advocacy Relations, National Cancer Institute, 31 Center Drive, Building 31, Room 10A28, Bethesda, MD 20892-2580, guestb@mail.nih.gov, Phone Number: 301-496-0307, Fax: 301-480-7558.

Nominations must be postmarked by April 15, 2008.

Dated: March 10, 2008.
Jennifer Spaeth,
Director, Office of Federal Advisory Committee Policy.

[FR Doc. E8-5213 Filed 3-17-08; 8:45 am]

BILLING CODE 4140-01-M